DEPARTMENT OF THE INTERIOR

Bureau of Land Management

43 CFR Parts 1600 and 6100

[LLHQ230000.23X.L117000000.PN0000]

RIN 1004-AE92

Conservation and Landscape Health: Extension of Comment Period

AGENCY: Bureau of Land Management, Interior.

ACTION: Proposed rule; extension of comment period.

SUMMARY: On April 3, 2023, the Bureau of Land Management (BLM) published in the Federal Register a proposed rule that, pursuant to the Federal Land Policy and Management Act of 1976 (FLPMA), as amended, and other relevant authorities, would advance the BLM's mission to manage the public lands for multiple use and sustained yield by prioritizing the health and resilience of ecosystems across those lands. To ensure that health and resilience, the proposed rule provides that the BLM will protect intact landscapes, restore degraded habitat, and make wise management decisions based on science and data. The BLM has determined that it is appropriate to extend the comment period for the docket until July 5, 2023, to allow for additional public comment.

DATES: The comment period for the proposed rule originally published on April 3, 2023, at 88 FR 19583. Comments must be submitted on or before July 5, 2023. The BLM need not consider, or include in the administrative record for the final rule, comments that the BLM receives after the close of the comment period or comments delivered to an address other than those listed in the ADDRESSES section.

ADDRESSES: Mail, personal, or messenger delivery: U.S. Department of the Interior, Director (HQ-630), Bureau of Land Management, Room 5646, 1849 C St. NW, Washington, DC 20240, Attention: Regulatory Affairs: 1004-AE-92 or 1004-AE92. Federal eRulemaking Portal: https://www.regulations.gov. In the Searchbox, enter “RIN 1004-AE-92” and click the “Search” button. Follow the instructions at this website.

FOR FURTHER INFORMATION CONTACT: Patricia Johnston, project manager, Division of Wildlife Conservation, Aquatics, and Environmental Protection at pjohnsto@blm.gov, for information on the rule. For information on procedural matters or the rulemaking process, you may contact Chandra Little, Regulatory Analyst for the Office of Regulatory Affairs, at 202-912-7403. Individuals in the United States who are deaf, blind, hard of hearing, or have a speech disability may dial 711 (TTY, TDD, or TeleBraille) to access telecommunications relay services. Individuals outside the United States should use the relay services offered within their country to make international calls to the point-of contact in the United States.

SUPPLEMENTARY INFORMATION:

Public Comment Procedures

If you wish to comment on this proposed rule, you may submit your comments to the BLM, marked with the number RIN 1004-AE-92 or 1004-AE92, by mail, personal or messenger delivery, or through https://www.regulations.gov (see the ADDRESSES section). Please note that comments on this proposed rule's information collection burdens should be submitted to the OMB as described in the ADDRESSES section. Please make your comments on the proposed rule as specific as possible, confine them to issues pertinent to the proposed rule, and explain the reason for any changes you recommend. Where possible, your comments should reference the specific section or paragraph of the proposal that you are addressing. The comments and recommendations that will be most useful and likely to influence agency decisions are:

1. Those supported by quantitative information or studies; and

2. Those that include citations to, and analyses of, the applicable laws and regulations. The BLM is not obligated to consider or include in the Administrative Record for the final rule comments that we receive after the close of the comment period (see DATES) or comments delivered to an address other than those listed above (see ADDRESSES). Comments, including names and street addresses of respondents, will be available for public review at the address listed under ADDRESSES: Mail, personal, or messenger delivery” during regular business hours (7:45 a.m. to 4:15 p.m. EST), Monday through Friday, except holidays. Before including your address, telephone number, email address, or other personal identifying information in your comment, be advised that your entire comment—including your personal identifying information—may be made publicly available at any time. While you can ask us in your comment to withhold from public review your personal identifying information, we cannot guarantee that we will be able to do so.

Background

The proposed rule was published on April 3, 2023 (88 FR 19583), with a 75-day comment period closing on June 20, 2023. Since publication, the BLM has received requests for extension of the comment period on the proposed rule. The BLM has determined that it is appropriate to extend the comment period for the docket until July 5, 2023, to allow for additional public comment.

Laura Daniel-Davis,
Principal Deputy Assistant Secretary, Land and Minerals Management.

[FR Doc. 2023-13050 Filed 6-16-23; 8:45 am]

BILLING CODE 4331-27-P